DEPARTMENT OF LABOR

Occupational Safety and Health Administration

Agency Information Collection Activities; Announcement of the Office of Management and Budget (OMB) Control Numbers Under the Paperwork Reduction Act

AGENCY: Occupational Safety and Health Administration (OSHA), Labor.

ACTION: Notice; announcement of OMB approval of information collection requirements.

SUMMARY: The Occupational Safety and Health Administration announces that OMB has extended its approval for a number of information collection requirements found in sections of 29 CFR parts 1910, 1915, and 1926. OSHA sought approval under the Paperwork Reduction Act of 1995 (PRA-95), and, as required by that Act, is announcing the approval numbers and expiration dates for those requirements.

DATES: This notice is effective April 14, 2008.

FOR FURTHER INFORMATION CONTACT: Todd Owen or Theda Kenney, Directorate of Standards and Guidance, Occupational Safety and Health Administration, U.S. Department of Labor, Room N-3609, 200 Constitution Avenue, NW., Washington, DC 20210, telephone: (202) 693-2222.

SUPPLEMENTARY INFORMATION: In a series of Federal Register notices, the Agency announced its requests to OMB to renew its current extensions of approvals for various information collection (paperwork) requirements in its safety and health standards for general industry, shipyard employment, and the construction industry, (i.e., 29 CFR Parts 1910, 1915, and 1926). In these Federal Register announcements, the Agency provided 60-day comment periods for the public to respond to OSHA's burden hour and cost estimates.

In accordance with PRA-95 (44 U.S.C. 3501-3520), OMB renewed its approval for these information collection requirements and assigned OMB control numbers to these requirements. The table below provides the following information for each of these OMB-approved requirements: The title of the collection; the date of the Federal Register notice; the Federal Register reference (date, volume, and leading page); OMB's control number; and the new expiration date.

Title | Date of Federal Register publication, Federal Register reference, and OSHA docket number | OMB control number | Expiration date
Access to Employee Exposure and Medical Records (29 CFR 1910.1020) | 02/15/2007, 72 FR 7465, Docket No. OSHA-2007-0009 | 1218-0065 | 05/31/2010
Additional Requirements for Special Dipping and Coating Operations (Dip Tanks) (29 CFR 1910.126(g)(4)) | 03/15/2007, 72 FR 12200, Docket No. OSHA-2007-0014 | 1218-0237 | 08/31/2010
Application for Training Grant | 06/21/2007, 72 FR 34299, Docket No. OSHA-2007-0056 | 1218-0020 | 11/30/2010
Asbestos in General Industry (29 CFR 1910.1001) | 04/05/2007, 72 FR 16830, Docket No. OSHA-2007-0026 | 1218-0133 | 08/31/2010
Bloodborne Pathogens (29 CFR 1910.1030) | 07/27/2007, 72 FR 41357, Docket No. OSHA-2007-0063 | 1218-0180 | 01/31/2011
Concrete and Masonry Construction (29 CFR Part 1926, Subpart Q) | 07/24/2007, 72 FR 40337, Docket No. OSHA-2007-0059 | 1218-0095 | 12/31/2010
Construction Fall Protection Plans and Training Requirements (29 CFR 1926.502 and 1926.503) | 03/28/2007, 72 FR 14615, Docket No. OSHA-2007-0037 | 1218-0197 | 08/31/2010
Cranes and Derricks for Construction (29 CFR 1926.550) | 07/31/2007, 72 FR 41775, Docket No. OSHA-2007-0060 | 1218-0113 | 12/31/2010
Crawler, Locomotive, and Truck Cranes (29 CFR 1910.180) | 05/04/2007, 72 FR 25333, Docket No. OSHA-2007-0035 | 1218-0221 | 09/30/2010
Definition and Requirements for a Nationally Recognized Testing Laboratory (29 CFR 1910.7) | 01/05/2007, 72 FR 583, Docket No. OSHA-2007-0050 | 1218-0147 | 06/30/2010
Derricks (29 CFR 1910.181) | 03/23/2007, 72 FR 13825, Docket No. OSHA-2007-0025 | 1218-0222 | 08/31/2010
Fire Protection in Shipyard Employment (29 CFR Part 1915, Subpart P) | 07/23/2007, 72 FR 40172, Docket No. OSHA-2007-0057 | 1218-0248 | 01/31/2011
Formaldehyde (29 CFR 1910.1048) | 02/15/2007, 72 FR 7464, Docket No. OSHA-2008-2007 | 1218-0145 | 05/31/2010
Gear Certification, OSHA-70 Form (29 CFR Part 1919) | 09/17/2007, 72 FR 52912, Docket No. OSHA-2007-0061 | 1218-0003 | 01/31/2011
Grantee Quarterly Progress Report | 06/08/2007, 72 FR 31863, Docket No. OSHA-2007-0048 | 1218-0100 | 10/31/2010
Ionizing Radiation (29 CFR 1910.1096) | 07/27/2007, 72 FR 41358, Docket No. OSHA-2007-0049 | 1218-0103 | 01/31/2011
Logging Operations (29 CFR 1910.266) | 08/22/2007, 72 FR 47081, Docket No. OSHA-2007-0018 | 1218-0198 | 12/31/2010
Manlifts (29 CFR 1910.68(e)) | 09/06/2007, 72 FR 51253, Docket No. OSHA-2007-0020 | 1218-0226 | 01/31/2011
Mechanical Power Presses (29 CFR 1910.217(e)(1)(i) and (e) (1)(ii)) | 06/04/2007, 72 FR 30729, Docket No. OSHA-2007-0036 | 1218-0229 | 09/30/2010
Noise Exposure (29 CFR 1910.95) | 04/27/2007, 72 FR 21054, Docket No. OSHA-2007-0022 | 1218-0048 | 08/31/2010
Overhead and Gantry Cranes (29 CFR 1910.179) | 05/30/2007, 72 FR 30035, Docket No. OSHA-2007-0034 | 1218-0224 | 09/30/2010
Portable Fire Extinguishers (Annual Maintenance Certification Record) (29 CFR 1910.157(e)(3)) | 07/02/2007, 72 FR 36068, Docket No. OSHA-2007-0052 | 1218-0238 | 11/30/2010
Powered Platforms for Building Maintenance (29 CFR 1910.66) | 10/05/2007, 72 FR 57072, Docket No. OSHA-2007-0062 | 1218-0121 | 01/31/2011
Presence Sensing Device Initiation (PSDI) (29 CFR 1910.217(h)) | 03/29/2007, 72 FR 14832, Docket No. OSHA-2007-0027 | 1218-0143 | 08/31/2010
Procedures for the Handling of Discrimination Complaints under Federal Employee Protection Statutes | 09/18/2007, 72 FR 53266, Docket No. OSHA-2007-0071 | 1218-0236 | 01/31/2011
Rigging Equipment for Material Handling (29 CFR 1926.251) | 06/22/2007, 72 FR 34483, Docket No. OSHA-2007-0055 | 1218-0233 | 11/30/2010
Storage and Handling of Anhydrous Ammonia (29 CFR 1910.111) | 08/16/2007, 72 FR 46097, Docket No. OSHA-2007-0019 | 1218-0208 | 01/31/2011
Student Data Form (OSHA Form 182) | 05/25/2007, 72 FR 29353, Docket No. OSHA-2007-0047 | 1218-0172 | 10/31/2010
The Hydrostatic Testing Provision of the Standard on Portable Fire Extinguishers (29 CFR 1910.157(f)(16)) | 06/18/2007, 72 FR 33537, Docket No. OSHA-2007-0051 | 1218-0218 | 10/31/2010
Welding, Cutting and Brazing (29 CFR 1910.255(e)) | 07/23/2007, 72 FR 40170, Docket No. OSHA-2007-0050 | 1218-0207 | 11/30/2010

In accordance with 5 CFR 1320.5(b), an agency cannot conduct, sponsor, or require a response to a collection of information unless the collection displays a valid OMB control number and the agency informs respondents that they are not required to respond to the collection of information unless it displays a currently valid OMB control number.

Authority and Signature

Edwin G. Foulke, Jr., Assistant Secretary of Labor for Occupational Safety and Health, directed the preparation of this notice. The authority for this notice is the Paperwork Reduction Act of 1995 (44 U.S.C. 3506 et seq.) and Secretary of Labor's Order No. 5-2007 (72 FR 31159).

Signed at Washington, DC, on April 8, 2008.
Edwin G. Foulke, Jr.
Assistant Secretary of Labor for Occupational Safety and Health.

[FR Doc. E8-7783 Filed 4-11-08; 8:45 am]

BILLING CODE 4510-26-P